ENVIRONMENTAL PROTECTION AGENCY

[OAR-2004-0051; FRL 7818-8]

Agency Information Collection Activities; Submission to OMB for Review and Approval; Comment Request; Recordkeeping and Reporting Requirements for Diesel Fuel Sold in 2001 and Later Years; for Tax-Exempt (Dyed) Diesel Fuel; and for Nonroad, Locomotive and Marine Diesel Fuel (Renewal), EPA ICR Number 1718.06, OMB Control Number 2060-0308

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing collection. This ICR is scheduled to expire on September 30, 2004. Under OMB regulations, the Agency may continue to conduct or sponsor the collection of information while this submission is pending at OMB. This ICR describes the nature of the information collection and its estimated burden and cost.

DATES: Additional comments may be submitted on or before October 27, 2004.

ADDRESSES: Submit your comments, referencing docket ID number OAR-2004-0051, to (1) EPA online using EDOCKET (our preferred method), by e-mail to a-and-r-Docket@epa.gov, or by mail to: Environmental Protection Agency, EPA Docket Center (EPA/DC), EPA West, Mail Code 6102 T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Anne Pastorkovich, Attorney/Advisor, Environmental Protection Agency, 1200 Pennsylvania Avenue, NW., Washington, DC 20460; telephone number: (202) 343-9623; fax number: (202) 343-2801; e-mail address: pastorkovich.anne-marie@epa.gov.

SUPPLEMENTARY INFORMATION: EPA has submitted the following ICR to OMB for review and approval according to the procedures prescribed in 5 CFR 1320.12. On May 17, 2004 (69 FR 27919) EPA sought comments on the proposed information collection related to the fuel quality regulations for diesel fuel sold in 2001 and later years and for tax-exempt (dyed) diesel fuel pursuant to 5 CFR 1320.8(d). No comments were received. For the nonroad, locomotive, and marine diesel, EPA sought comments on the proposed information collection via a proposed rule published in the Federal Register on May 23, 2003 and a final rule published on June 29, 2004. At the request of the Office of Management and Budget, information collection activities applicable through September 30, 2007 (the period of this renewal) have been included via this second notice and an amended Supporting Statement, which has been placed in the public docket.

EPA has established a public docket for this ICR under Docket ID No. OAR-2004-0051, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Recordkeeping and Reporting Requirements for the Fuel Quality Regulations for Diesel Fuel Sold in 2001 and Later Years; for Tax-Exempt (Dyed) Highway Diesel Fuel; and for Nonroad, Locomotive and Marine Diesel Fuel (Renewal).

Abstract: This renewal includes recordkeeping and reporting under two existing and related ICRs that will expire on September 30, 2004. These are the fuel quality regulations for diesel fuel sold in 2001 and later years (covered by current EPA ICR No. 1718.04) and the recordkeeping and reporting requirements related to tax-exempt (dyed) diesel fuel (covered by current EPA ICR No. 1718.03). In addition, this renewal includes recordkeeping and reporting activities that would apply for nonroad, locomotive, and marine diesel fuel through 2007 (covered by proposed EPA ICR No. 1718.07). These latter requirements were included in the renewal in response to OMB comments.

An agency may not conduct or sponsor, and a person is not required to respond to, a collection of information unless it displays a currently valid OMB control number. The OMB control numbers for EPA's regulations in 40 CFR are listed in 40 CFR part 9 and are identified on the form and/or instrument, if applicable.

Burden Statement: It is estimated that there will be 444,100 reports, 312,233 burden hours, and total annual costs of $28,795,145 (which include labor, operations and maintenance [O&M], and purchased services). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Respondents include refiners (both domestic and foreign refiners who manufacture diesel for use in the U.S.); importers of diesel fuel into the U.S.; diesel distributors, carriers, wholesale purchaser-consumers, and retailers; and users of research and development diesel (testing laboratories).

Estimated Number of Respondents: 7,640.

Frequency of Response: On occasion; annually.

Estimated Total Annual Hour Burden: 312,233.

Estimated Total Annual Cost: $28,795,145, including $4,200,000 annualized capital/startup costs, $4,300,000 annual O&M costs, and $20,295,145 annual labor costs.

Changes in the Estimates: There is a net increase of 239,363 hours in the total estimated burden currently identified in the OMB Inventory of Approved ICR Burdens. This increase is due to new requirements for nonroad, locomotive and marine diesel fuel.

Dated: September 20, 2004.
Oscar Morales,
Director, Collection Strategies Division.

[FR Doc. 04-21581 Filed 9-24-04; 8:45 am]

BILLING CODE 6560-50-P